DEPARTMENT OF COMMERCE

International Trade Administration

[A-580-810]

Welded ASTM A-312 Stainless Steel Pipe From the Republic of Korea: Preliminary Results of Antidumping Duty Administrative Review; 2013-2014

AGENCY: Enforcement and Compliance, International Trade Administration, Department of Commerce.

SUMMARY: In response to requests from Petitioners and SeAH Steel Corporation (SeAH), the Department of Commerce (Department) is conducting an administrative review of the antidumping duty order on welded ASTM A-312 stainless steel pipe from Republic of Korea (Korea).¹ The period of review (POR) is December 1, 2013, through November 30, 2014. The review covers two exporters and/or producers of the subject merchandise, SeAH and LS Metal Co., Ltd. (LS Metal). The Department preliminarily finds that SeAH and LS Metal sold subject merchandise at less than normal value during the POR. We invite interested parties to comment on these preliminary results.

¹ Petitioners are Bristol Metals LLC, Felker Brothers Corporation, and Outokumpu Stainless Pipe, Inc.

DATES: Effective Date: January 7, 2016.

FOR FURTHER INFORMATION CONTACT: Lingjun Wang, AD/CVD Operations, Office VII, Enforcement and Compliance, International Trade Administration, U.S. Department of Commerce, 14th Street and Constitution Avenue NW., Washington, DC 20230; telephone: (202) 482-2316.

SUPPLEMENTARY INFORMATION:

Scope of the Order

The merchandise subject to the antidumping duty order is welded austenitic stainless steel pipe that meets the standards and specifications set forth by the American Society for Testing and Materials (ASTM) for the welded form of chromium-nickel pipe designated ASTM A-312. The merchandise covered by the scope of the orders also includes austenitic welded stainless steel pipes made according to the standards of other nations which are comparable to ASTM A-312.

Imports of welded ASTM A-312 stainless steel pipe are currently classifiable under the following Harmonized Tariff Schedule of the United States (HTSUS) subheadings: 7306.40.5005, 7306.40.5015, 7306.40.5040, 7306.40.5062, 7306.40.5064, and 7306.40.5085. Although these subheadings include both pipes and tubes, the scope of the antidumping duty order is limited to welded austenitic stainless steel pipes. The HTSUS subheadings are provided for convenience and customs purposes. However, the written description of the scope of the orders is dispositive.²

² See Decision Memorandum for the Preliminary Results of the Antidumping Duty Administrative Review: Welded ASTM A-312 Stainless Steel Pipe from the Republic of Korea; 2013-2014, dated concurrently with this notice for a full description of the scope of the order (Preliminary Decision Memorandum).

Methodology

The Department is conducting this review in accordance with section 751(a)(2) of the Tariff Act of 1930, as amended (the Act). Constructed export price is calculated in accordance with section 772 of the Act. Normal value is calculated in accordance with section 773 of the Act. With respect to LS Metal, we relied on facts available,³ and, because it did not act to the best of its ability to respond to the Department's requests for information, we drew an adverse inference in selecting from among the facts otherwise available.⁴

³ See section 776(a) of the Act.

⁴ See section 776(b) of the Act.

For a full description of the methodology underlying these preliminary results, see the Preliminary Decision Memorandum, which is hereby adopted by this notice. A list of the topics discussed in the Preliminary Decision Memorandum is attached as an appendix to this notice. The Preliminary Decision Memorandum is a public document and is on file electronically via Enforcement and Compliance's Antidumping and Countervailing Duty Centralized Electronic Service System (ACCESS). ACCESS is available to registered users at https://access.trade.gov, and is available to all parties in the Central Records Unit, Room B8024 of the Department's main building. In addition, a complete version of the Preliminary Decision Memorandum can be accessed directly on the internet at http://www.trade.gov/enforcement/. The signed Preliminary Decision Memorandum and the electronic versions of the Preliminary Decision Memorandum are identical in content.

Preliminary Results of Review

As a result of our review, we preliminarily determine the following weighted-average dumping margins for the period December 1, 2013, through November 30, 2014.

Producer and/or exporter | Margin (percent)
SeAH Steel Corporation | 2.58
LS Metal Co., Ltd | 31.70

Disclosure and Public Comment

The Department intends to disclose the calculations performed in connection with these preliminary results within five days after the date of publication of this notice in accordance with 19 CFR 351.224(b).

Interested parties are invited to comment on the preliminary results of this review and may submit case briefs no later than 30 days after the date of publication of this notice. Rebuttal briefs, limited to issues raised in the case briefs, may be filed not later than five days after the date for filing case briefs.⁵ Parties who submit case briefs or rebuttal briefs in this review are encouraged to submit with each argument: (1) A statement of the issue; (2) a brief summary of the argument; and (3) a table of authorities.⁶ Executive summaries should be limited to five pages total, including footnotes.⁷ Case and rebuttal briefs should be filed using ACCESS.⁸ An electronically filed document must be received successfully in its entirety by ACCESS, by 5:00 p.m. Eastern Time on the on which it is due.⁹

⁵ See 19 CFR 351.309(c) and (d).

⁶ See 19 CFR 351.309(c)(2) and (d)(2).

⁷ Id.

⁸ See 19 CFR 351.303.

⁹ See 19 CFR 351.303(b)(1).

Pursuant to 19 CFR 351.310(c), interested parties who wish to request a hearing must submit a written request to the Assistant Secretary for Enforcement and Compliance within 30 days of the date of publication of this notice, filed electronically via ACCESS. Requests should contain: (1) The party's name, address and telephone number; (2) the number of participants; and (3) a list of issues parties intend to discuss. Issues raised in the hearing will be limited to those raised in the respective case and rebuttal briefs. If a request for a hearing is made, the Department intends to hold the hearing at the U.S. Department of Commerce, 14th Street and Constitution Avenue NW., Washington, DC 20230, at a date and time to be determined. See 19 CFR 351.310(d). Parties should confirm by telephone the date, time, and location of the hearing two days before the scheduled date.

We intend to issue the final results of this administrative review within 120 days after the date of publication of this notice, unless otherwise extended.¹⁰

¹⁰ See section 751(a)(3)(A) of the Act and 19 CFR 351.213(h)(1).

Assessment Rates

Upon completion of this administrative review, the Department shall determine and U.S. Customs and Border Protection (CBP) shall assess antidumping duties on all appropriate entries. If a respondent's weighted-average dumping margin is not zero or de minimis (i.e., less than 0.5 percent) in the final results of this review, we will calculate importer-specific ad valorem assessment rates on the basis of the ratio of the total amount of dumping calculated for an importer's examined sales and the total entered value of such sales in accordance with 19 CFR 351.212(b)(1). Where an importer-specific ad valorem assessment rate is zero or de minimis, we will instruct CBP to liquidate the appropriate entries without regard to antidumping duties in accordance with 19 CFR 351.106(c)(2). If a respondent's weighted-average dumping margin is zero or de minimis in the final results of this review, we will instruct CBP to liquidate the appropriate entries without regard to antidumping duties in accordance with the Final Modification for Reviews.¹¹

¹¹ See Antidumping Proceedings: Calculation of the Weighted-Average Dumping Margin and Assessment Rate in Certain Antidumping Proceedings: Final Modification, 77 FR 8101, 8102 (February 14, 2012) (Final Modification for Reviews) (“Where the weighted-average margin of dumping for the exporter is determined to be zero or de minimis, no antidumping duties will be assessed.”).

The Department clarified its “automatic assessment” regulation on May 6, 2003.¹² This clarification applies to entries of subject merchandise during the POR produced by a respondent for which it did not know its merchandise was destined for the United States. In such instances, we will instruct CBP to liquidate unreviewed entries at the all-others rate if there is no rate for the intermediate company(ies) involved in the transaction.

¹² For a full discussion of this clarification, see Antidumping and Countervailing Duty Proceedings: Assessment of Antidumping Duties, 68 FR 23954 (May 6, 2003) (Assessment Policy Notice).

We intend to issue instructions to CBP 15 days after publication of the final results of this review.

Cash Deposit Requirements

The following cash deposit requirements will be effective upon publication of the notice of final results of administrative review for all shipments of welded ASTM A-312 stainless steel pipe from Korea entered, or withdrawn from warehouse, for consumption on or after the date of publication as provided for by section 751(a)(2)(C) of the Act: (1) The cash deposit rate for the companies under review will be equal to the weighted-average dumping margin established in the final results of this review except if that rate is de minimis within the meaning of 19 CFR 351.106(c)(1), in which case the cash deposit rate will be zero; (2) for merchandise exported by manufacturers or exporters not covered in this review but covered in a prior segment of the proceeding, the cash deposit rate will continue to be the company-specific rate published for the most recently completed segment of this proceeding in which the manufacturer or exporter participated; (3) if the exporter is not a firm covered in this review, a prior review, or the less-than-fair-value investigation but the manufacturer is, then the cash deposit rate will be the rate established for the most recently completed segment of this proceeding for the manufacturer of the merchandise; and (4) if neither the exporter nor the manufacturer is a firm covered in this or any previously completed segment of this proceeding, then the cash deposit rate will be the “all-others” rate of 6.83 percent established in the less-than-fair-value investigation.¹³ These deposit requirements, when imposed, shall remain in effect until further notice.

¹³ See Antidumping Duty Order and Clarification of Final Determination: Certain Welded Stainless Steel Pipes From Korea, 57 FR 62301, 62302 (December 30, 1992).

Notification to Importers

This notice serves as a preliminary reminder to importers of their responsibility under 19 CFR 351.402(f)(2) to file a certificate regarding the reimbursement of antidumping duties prior to liquidation of the relevant entries during this review period. Failure to comply with this requirement could result in the Department's presumption that reimbursement of antidumping duties occurred and the subsequent assessment of doubled antidumping duties.

Notification to Interested Parties

These preliminary results of administrative review are issued and published in accordance with sections 751(a)(1) and 777(i)(1) of the Act and 19 CFR 351.213(h).

Dated: December 21, 2015.
Paul Piquado,
Assistant Secretary for Enforcement and Compliance.

Appendix

List of Topics Discussed in the Preliminary Decision Memorandum

Summary

Background

Scope of the Order

Discussion of Methodology

A. Comparisons to Fair Value

B. Date of Sale

C. Product Comparisons

D. Constructed Export Price

E. SeAH's Alleged Affiliation With POSCO Based on Close Supplier Relationship

F. Normal Value

G. Cost of Production Analysis

H. Calculation of Normal Value Based on Comparison Market Prices

I. Currency Conversion

J. Application of Facts Available and Use of Adverse Inferences

Recommendation

[FR Doc. 2016-00078 Filed 1-6-16; 8:45 am]

BILLING CODE 3510-DS-P